DEPARTMENT OF THE TREASURY

Internal Revenue Service

26 CFR Part 1

[TD 9304]

RIN 1545-BF26

Guidance Necessary to Facilitate Business Electronic Filing Under Section 1561

Correction

In rule document 06-9758 beginning on page 76904 in the issue of Friday, December 22, 2006, make the following corrections:

§ 1.342-1 [Corrected]

1. On page 76906, in the third column, in the section heading for § 1.342-1, “§ 4.342-1 [Removed]” should read “§ 1.342-1 [Removed]”.

§ 1.563-1T [Corrected]

2. On page 76911, in the first column, in § 1.563-1T(a)(5)(ii), in Example 1, in the third line, “corporations and Y” should read “corporations L1 and Y”.

[FR Doc. C6-9758 Filed 1-24-07; 8:45 am]

BILLING CODE 1505-01-D

DEPARTMENT OF THE TREASURY

Internal Revenue Service

26 CFR Part 1

[TD 9305]

RIN 1545-AW50

Source of Income from Certain Space and Ocean Activities; Source of Communications Income

Correction

In rule document E6-22174 beginning on page 77594 in the issue of Wednesday, December 27, 2006, make the following correction:

§ 1.863-9 [Corrected]

On page 77610, in the third column, in § 1.863-9(j), in Example 11, in the fourth line, “canconnect” should read “can connect”.

[FR Doc. Z6-22174 Filed 1-24-07; 8:45 am]

BILLING CODE 1505-01-D